DEPARTMENT OF STATE

[Public Notice 11060]

Notice of Public Meeting Concerning the Use of Digital Sequence Information of Genetic Resources; Correction

ACTION: Notice of meeting; correction.

SUMMARY: The State Department published a document in the Federal Register on February 20, 2020 concerning a planned public meeting on March 12, 2020. This document was published with the incorrect time for the meeting.

FOR FURTHER INFORMATION CONTACT: Questions regarding the submission of comments should be directed to Patrick Reilly (202) 647-4827, ReillyPK2@state.gov.

SUPPLEMENTARY INFORMATION:

Correction

In the Federal Register of February 20, 2020, in FR Doc. 2020-03423, on page 9920, first column, correct DATES to read:

DATES: A meeting is planned on Thursday, March 12, 2020. The meeting will begin at 10:00 a.m. EST and last for up to two hours.

Catherine J. Karr-Colque,
Acting Director, Office of Conservation and Water, Department of State.

[FR Doc. 2020-04489 Filed 3-4-20; 8:45 am]

BILLING CODE 4710-09-P